DEPARTMENT OF COMMERCE

International Trade Administration

U.S. Travel and Tourism Advisory Board

AGENCY: International Trade Administration, U.S. Department of Commerce.

ACTION: Notice of an Opportunity To Apply for Membership on the U.S. Travel and Tourism Advisory Board.

SUMMARY: The Department of Commerce is currently seeking applications to fill three vacant positions on the U.S. Travel and Tourism Advisory Board (Board). The purpose of the Board is to advise the Secretary of Commerce on matters relating to the travel and tourism industry.

ADDRESSES: Please submit application information via e-mail to jennifer.pilat@trade.gov or by mail to Jennifer Pilat, Office of Advisory Committees, U.S. Travel and Tourism Advisory Board Executive Secretariat, U.S. Department of Commerce, Room 4043, 1401 Constitution Avenue, NW., Washington, DC 20230.

DATES: All applications must be received by the Office of Advisory Committees by close of business on October 8, 2010.

FOR FURTHER INFORMATION CONTACT: Jennifer Pilat, U.S. Travel and Tourism Advisory Board, Room 4043, 1401 Constitution Avenue, NW., Washington, DC 20230, telephone: 202-482-5896, e-mail: jennifer.pilat@trade.gov.

SUPPLEMENTARY INFORMATION: The Office of Advisory Committees is accepting applications for three vacant positions on the Board for the current two-year charter term that began September 2009. Members shall serve until the Board's charter expires on September 20, 2011. Members will be selected, in accordance with applicable Department of Commerce guidelines, based on their ability to advise the Secretary of Commerce on matters relating to the U.S. travel and tourism industries, to act as a liaison among the stakeholders represented by the membership and to provide a forum for those stakeholders on current and emerging issues in the travel and tourism industry. Members of the Board shall be selected in a manner that ensures that the Board is balanced in terms of points of view, industry sector or subsector, range of products and services, demographics, geographic locations, and company size. Additional factors which may be considered in the selection of Board members include candidates' proven experience in promoting, developing, and implementing advertising and marketing programs for travel-related or tourism-related industries; or the candidates' proven abilities to manage tourism-related or other service-related organizations.

Each Board member shall serve as the representative of a U.S. entity or U.S. organization in the travel and tourism sector. For the purposes of eligibility, a U.S. entity shall be defined as a firm incorporated in the United States (or an unincorporated firm with its principal place of business in the United States) that is controlled by U.S. citizens or by another U.S. entity. An entity is not a U.S. entity if 50 percent plus one share of its stock (if a corporation, or a similar ownership interest of an unincorporated entity) is controlled, directly or indirectly, by non-U.S. citizens or non-U.S. entities. For the purposes of eligibility, a U.S. organization shall be defined as an organization, including a trade association or government unit or body, established under the laws of the United States that is controlled by U.S. citizens or by another U.S. organization or entity, as determined based on board of directors (or comparable governing body), membership, and revenue sources.

Priority may be given to a Chief Executive Officer or President (or comparable level of responsibility) of a U.S. organization or U.S. entity in the travel and tourism sector. Priority may also be given to individuals with international tourism marketing experience.

Officers or employees of state and regional tourism marketing entities are eligible for consideration for Board membership as representatives of U.S. organizations. A state and regional tourism marketing entity may include, but is not limited to, state government tourism offices, state and/or local government supported tourism marketing entities, or multi-state tourism marketing entities. Again, priority may be given to a Chief Executive Officer or President (or comparable level of responsibility) of a state and regional tourism marketing entity.

Members will serve at the discretion of the Secretary of Commerce. Board members shall serve in a representative capacity, representing the views and interests of their particular business sector or subsector. Board members are not special government employees and will receive no compensation for their participation in Board activities. Members participating in Board meetings and events will be responsible for their travel, living and other personal expenses. Meetings will be held regularly and not less than twice annually, usually in Washington, DC. Members are required to attend a majority of the Board's meetings. The current Board met initially on April 12, 2010 in Washington DC and again on July 26, 2010 in New Orleans. The next meeting is scheduled to take place in Las Vegas on October 26, 2010.

To be considered for membership, please provide the following:

1. Name and title of the individual requesting consideration.

2. A sponsor letter from the applicant on his or her organization/entity letterhead or, if the applicant is to represent an entity other than his or her employer, a letter from the entity to be represented, containing a brief statement of why the applicant should be considered for membership on the Board. This sponsor letter should also address the applicant's travel and tourism-related experience.

3. The applicant's personal resume.

4. An affirmative statement that the applicant is not required to register as a foreign agent under the Foreign Agents Registration Act of 1938, as amended.

5. An affirmative statement by the applicant that he or she is not a federally registered lobbyist, and that the applicant understands that he or she, if appointed, will not be allowed to continue to serve as a Board member if the applicant becomes a federally registered lobbyist.

6. If the applicant represents a state or regional tourism marketing entity, the functions and responsibilities of the entity.

7. If the applicant represents an organization, information regarding the control of the organization, including the governing structure, members, and revenue sources as appropriate signifying compliance with the criteria set forth above.

8. If the applicant represents a company, information regarding the control of the company, including the governing structure and stock holdings as appropriate signifying compliance with the criteria set forth above.

9. The entity's or organization's size and ownership, product or service line and major markets in which the entity or organization operates.

Appointments of members to the Board will be made by the Secretary of Commerce.

Dated: September 21, 2010.
Jennifer Pilat,
Executive Secretary, U.S. Travel and Tourism Advisory Board.

[FR Doc. 2010-24049 Filed 9-24-10; 8:45 am]

BILLING CODE 3510-DR-P